DEPARTMENT OF VETERANS AFFAIRS

Veterans and Community Oversight and Engagement Board, Notice of Meeting

The Department of Veterans Affairs (VA) gives notice under the Federal Advisory Committee Act that the Veterans and Community Oversight and Engagement Board (Board) will meet on October 19-20, 2022, at VA Greater Los Angeles Healthcare System (VAGLAHS), 11301 Wilshire Boulevard, Building 500, Room 1281, Los Angeles, CA. The meeting sessions will begin and end as follows:

Date(s) | Time(s)
October 19, 2022 | 8:30 a.m. to 5:00 p.m.—Pacific Daylight Time (PDT).
October 20, 2022 | 8:30 a.m. to 5:00 p.m.—PDT.

The meetings are open to the public and will be recorded.

The Board was established by the West Los Angeles Leasing Act of 2016 on September 29, 2016. The purpose of the Board is to provide advice and make recommendations to the Secretary of Veterans Affairs on identifying the goals of the community and Veteran partnership; improving services and outcomes for Veterans, members of the Armed Forces, and the families of such Veterans and members; and on the implementation of the Draft Master Plan approved by VA Secretary on January 28, 2016, and on the creation and implementation of any successor master plans.

On Wednesday, October 19, 2022, the Board will meet in open session with key staff of the VAGLAHS at the 11301 Wilshire Boulevard, Building 500, Room 1281, Los Angeles, CA. The agenda will include opening remarks from the Board Chair, Executive Sponsor, and other VA officials. There will be a general update from the Director of the VAGLAHS. The Board will receive a comprehensive demonstration of the new Homelessness Tracking Dashboard presented by the Community Engagement and Reintegration Services (CERS) team from (VAGLAHS). Followed by a detailed discussion of a Coordinated Entry System to facilitate CERS long and short-term tenant selection plan for future housing. GLA will present a comprehensive briefing on the status of the lease revenue followed by an overview of a long term and immediate needs assessment strategy for projected housing occupants.

On Thursday, October 20, 2022, the Board will reconvene in open session and receive comprehensive presentations from the current West Los Angeles, Enhanced Use Lease Project developers (Veterans Collective, Shangri-La, and Walsh Group and Core Companies). Each developer will provide an overview and status of ongoing construction to include projected completion date, proposed move in plan, current selected service provider, and details of the service plans. The Board's subcommittees on Outreach and Community Engagement with Services and Outcomes, and Master Plan with Services and Outcomes will provide an out brief to the full Board and update on draft recommendations to be considered for forwarding to the Secretary of Veterans Affairs.

Members of the public who have confirmed registrations to provide public comment will be allowed to attend in person and granted access via designated entry control point. All other members of the public can attend the meeting via WEBEX by joining from the meeting link below. The link will be active from 8:00 a.m.-5:45 p.m. PDT daily, October 19-20, 2022.

Meeting Link: https://veteransaffairs.webex.com/veteransaffairs/j.php?MTID=mdecdb191531e94056fac598ca9f18274.

Meeting Number: (access Code) 2760 070 7842.

Tap to join from a mobile device, 14043971596..27600707842.

Join by video system or application: Dial 27600707842@veteransaffairs.webex.com. You can also dial 207.182.190.20 and enter your meeting number.

Join by phone: 14043971596 USA Toll Number Access code: 2760 070 7842; Global call-in numbers | Toll-free calling in restrictions.

Time will be allocated for receiving public comments on October 19, at 12:50 p.m. PDT. Individuals wishing to make public comments should contact Chihung Szeto at (562) 708-9959 or at Chihung.Szeto@va.gov and are requested to submit a 1-2-page summary of their comments for inclusion in the official meeting record. Only those members of the public (first 12 public comment registrants) who have confirmed registrations to provide public comment will be allowed to attend the Board meeting in person and granted access via designated entry control point. In the interest of time, each speaker will be held to 5-minute time limit. The Board will accept written comments from interested parties on issues outlined in the meeting agenda, from October 17 through October 24, 2022.

Any member of the public seeking additional information should contact Mr. Eugene W. Skinner Jr. at (202) 631-7645 or at Eugene.Skinner@va.gov.

Dated: September 19, 2022.
Jelessa M. Burney,
Federal Advisory Committee Management Officer.

[FR Doc. 2022-20551 Filed 9-21-22; 8:45 am]

BILLING CODE 8320-01-P